DEPARTMENT OF ENERGY

Federal Energy Regulatory Commission

Combined Notice of Filings #1

Take notice that the Commission received the following Complaints and Compliance filings in EL Dockets:

Docket Numbers: EL24-117-000.

Applicants: Scale Microgrid Solutions, LLC.

Description: Petition for Declaratory Order of Scale Microgrid Solutions, LLC.

Filed Date: 6/5/24.

Accession Number: 20240605-5237.

Comment Date: 5 p.m. ET 7/5/24.

Take notice that the Commission received the following electric rate filings:

Docket Numbers: ER24-377-003.

Applicants: Devon Energy Production Company, LP.

Description: Compliance filing: Amendment to Market Base Rate Filing to be effective 12/26/2023.

Filed Date: 6/7/24.

Accession Number: 20240607-5072.

Comment Date: 5 p.m. ET 6/28/24.

Docket Numbers: ER24-377-004.

Applicants: Devon Energy Production Company, LP.

Description: Compliance filing: Second Amendment to Market Based Rate Filing to be effective 12/26/2023.

Filed Date: 6/7/24.

Accession Number: 20240607-5107.

Comment Date: 5 p.m. ET 6/28/24.

Docket Numbers: ER24-2204-000.

Applicants: Pacific Gas and Electric Company.

Description: 205(d) Rate Filing: Amendment to WAPA Cottonwood and Round Mountain O&M Agreement (RS 242) to be effective 5/8/2024.

Filed Date: 6/7/24.

Accession Number: 20240607-5000.

Comment Date: 5 p.m. ET 6/28/24.

Docket Numbers: ER24-2205-000.

Applicants: Pacific Gas and Electric Company.

Description: 205(d) Rate Filing: Amendment to Port of Stockton (SA 117) to be effective 7/2/2024.

Filed Date: 6/7/24.

Accession Number: 20240607-5001.

Comment Date: 5 p.m. ET 6/28/24.

Docket Numbers: ER24-2206-000.

Applicants: Southwest Power Pool, Inc.

Description: 205(d) Rate Filing: 3949R1 Platteview Solar Interim GIA to be effective 6/4/2024.

Filed Date: 6/7/24.

Accession Number: 20240607-5036.

Comment Date: 5 p.m. ET 6/28/24.

Docket Numbers: ER24-2207-000.

Applicants: Southwest Power Pool, Inc.

Description: 205(d) Rate Filing: 2142R6 Golden Spread Electric Cooperative, Inc. NITSA to be effective 6/1/2024.

Filed Date: 6/7/24.

Accession Number: 20240607-5037.

Comment Date: 5 p.m. ET 6/28/24.

Docket Numbers: ER24-2208-000.

Applicants: Southwest Power Pool, Inc.

Description: 205(d) Rate Filing: Revisions to WEIS Tariff Regarding the Market Power Test to be effective 12/31/9998.

Filed Date: 6/7/24.

Accession Number: 20240607-5042.

Comment Date: 5 p.m. ET 6/28/24.

Docket Numbers: ER24-2209-000.

Applicants: Evergy Missouri West, Inc.

Description: 205(d) Rate Filing: Notice of Succession to be effective 6/8/2024.

Filed Date: 6/7/24.

Accession Number: 20240607-5061.

Comment Date: 5 p.m. ET 6/28/24.

Docket Numbers: ER24-2210-000.

Applicants: Dogwood Energy LLC.

Description: Tariff Amendment: Notice of Cancellation of Participation Agreement Rate Schedule to be effective 6/8/2024.

Filed Date: 6/7/24.

Accession Number: 20240607-5070.

Comment Date: 5 p.m. ET 6/28/24.

Docket Numbers: ER24-2211-000.

Applicants: Alabama Power Company, Georgia Power Company, Mississippi Power Company.

Description: 205(d) Rate Filing: Alabama Power Company submits tariff filing per 35.13(a)(2)(iii: Granceil Solar LGIA Filing to be effective 5/24/2024.

Filed Date: 6/7/24.

Accession Number: 20240607-5094.

Comment Date: 5 p.m. ET 6/28/24.

Docket Numbers: ER24-2212-000.

Applicants: Golden Fields Solar IV, LLC.

Description: 205(d) Rate Filing: Second Amendment to Amended and Restated Shared Facilities Agreement No. 1 to be effective 6/8/2024.

Filed Date: 6/7/24.

Accession Number: 20240607-5118.

Comment Date: 5 p.m. ET 6/28/24.

Docket Numbers: ER24-2213-000.

Applicants: Tri-State Generation and Transmission Association, Inc.

Description: 205(d) Rate Filing: Initial Filing of Rate Schedule FERC No. 371 to be effective 8/6/2024.

Filed Date: 6/7/24.

Accession Number: 20240607-5131.

Comment Date: 5 p.m. ET 6/28/24.

Docket Numbers: ER24-2214-000.

Applicants: Golden Fields Solar III, LLC.

Description: 205(d) Rate Filing: Certificate of Concurrence to be effective 6/8/2024.

Filed Date: 6/7/24.

Accession Number: 20240607-5142.

Comment Date: 5 p.m. ET 6/28/24.

Docket Numbers: ER24-2215-000.

Applicants: PJM Interconnection, L.L.C.

Description: 205(d) Rate Filing: Original GIA, Service Agreement No. 7256; AE2-139 to be effective 5/8/2024.

Filed Date: 6/7/24.

Accession Number: 20240607-5145.

Comment Date: 5 p.m. ET 6/28/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 7, 2024.
Debbie-Anne A. Reese,
Acting Secretary.

[FR Doc. 2024-12987 Filed 6-12-24; 8:45 am]

BILLING CODE 6717-01-P